DEPARTMENT OF THE INTERIOR

Bureau of Ocean Energy Management

[OMB Control Number 1010-NEW; Docket ID: BOEM-2024-0007]

Agency Information Collection Activities; Cook Inlet Recreation and Tourism Survey

AGENCY: Bureau of Ocean Energy Management, Interior.

ACTION: Notice of information collection; request for comments.

SUMMARY: In accordance with the Paperwork Reduction Act of 1995, the Bureau of Ocean Energy Management (BOEM) proposes a new information collection request (ICR).

DATES: Comments must be received by BOEM no later than April 9, 2024.

ADDRESSES: Send your comments on this ICR by mail to the BOEM Information Collection Clearance Officer, Anna Atkinson, Bureau of Ocean Energy Management, 45600 Woodland Road, Sterling, Virginia 20166; or by email to anna.atkinson@boem.gov. Please reference Office of Management and Budget (OMB) Control Number 1010-NEW in the subject line of your comments. You may also view and comment on the ICR and its related documents by searching the docket number BOEM-2024-0007 at http://www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM solicits comments on the proposed ICR described below. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in its ICR to OMB for approval of this information collection. You should be aware that your entire comment—including your address, phone number, email address, or other personally identifiable information included in your comment—may be made publicly available.

In order for BOEM to consider withholding from disclosure your personally identifiable information, you must identify, in a cover letter, any information contained in your comment that, if released, would constitute a clearly unwarranted invasion of your privacy. You must also briefly describe any possible harmful consequences of the disclosure of information, such as embarrassment, injury, or other harm. Note that BOEM will make available for public inspection, in their entirety, all comments submitted by organizations and businesses, or by individuals identifying themselves as representatives of organizations or businesses.

Even if BOEM withholds your information in the context of this ICR, your comment is subject to the Freedom of Information Act (FOIA). If your comment is requested under FOIA, your information will only be withheld if BOEM determines that one of the FOIA exemptions to disclosure applies. Such a determination will be made in accordance with the Department's FOIA regulations and applicable law.

BOEM protects proprietary information in accordance with FOIA and the Department's implementing regulations.

Title of Collection: Cook Inlet Recreation and Tourism Survey.

Abstract: Natural resource-based recreation in the marine and coastal environments of Cook Inlet, Alaska, offers numerous economic, cultural, environmental, health, educational, and quality-of-life benefits. Recreation and tourism play a vital role in supporting local economies, preserving cultural heritage, promoting environmental stewardship, and improving the well-being of both residents and visitors. The Outer Continental Shelf Lands Act charges BOEM with managing the energy and mineral resources of the Outer Continental Shelf (OCS) for protection of marine and coastal environments that support human lives and society. Additionally, to ensure the scientific integrity of its National Environmental Policy Act (NEPA) assessments, BOEM requires reliable data and information to evaluate the extent to which its activities adversely affect the human environment (40 CFR 1502.23). As defined in 40 CFR 1508.1, the effects on the human environment evaluated in NEPA assessments include social and economic impacts, as well as the ecological, aesthetic, historic, cultural, and health effects.

BOEM intends to conduct a research study of outdoor recreation and tourism in the Cook Inlet OCS Planning Area and adjacent coastal areas (i.e., the study area). BOEM seeks updated baseline information on the nature, distribution, and seasonality of outdoor recreation and tourism in the study area, and the relative preferences and values for these activities. BOEM would use this information to determine how stakeholders and the recreational and tourism economy may be affected by potential future oil, gas, renewable energy, and other energy exploration and development activities. This study would help BOEM identify any appropriate mitigation strategies to address potential adverse effects of its activities on recreation and tourism in the study area. Altogether, the study would enable BOEM to develop more rigorous and thorough environmental analyses during any NEPA processes related to future Cook Inlet OCS energy and mineral activities.

Specifically, this information collection would involve primary data collection (following ICR approval by OMB) to elicit information on: (a) activities and attributes contributing to the value of recreational experiences; (b) expenditures related to recreational activities; and (c) how these things differ across the region and different user groups (residents and visitors). The primary research would provide meaningful insight regarding the influence of energy development on recreation and tourism (e.g., by comparing areas in the Upper Cook Inlet with existing energy infrastructure to other areas in Cook Inlet without any energy infrastructure). The study also would document user attitudes regarding how recreation and tourism may be affected by different energy development-related activities (e.g., noise, space use conflicts, spill risks, aesthetic effects of infrastructure, and vessel traffic).

The study's primary research design would include three components: focus groups, cognitive interviews, and onsite intercept surveys. The focus groups and cognitive interviews would be used to develop and pretest a draft survey, first in a group setting (focus groups) and then in a one-on-one interview setting (cognitive interviews). The final onsite intercept surveys would be administered at approximately two dozen sites in the study area during the primary recreation season from May to October. Potential respondents would be approached as they arrive to or depart from a site and invited to fill out the survey.

1. Focus Groups—To inform survey development, BOEM would conduct focus groups with recreationists in the study area. The recreationists would identify their preferred coastal- and marine-related recreation sites; why they choose their preferred sites; the differences they perceive between sites near existing energy infrastructure (in portions of the Upper Cook Inlet) to sites that are not near any energy infrastructure, and the recreational quality of those sites; what they like about their recreational experiences around Cook Inlet; what they do not like about the Cook Inlet sites they avoid; how offshore energy exploration and development activities may affect their recreation site choice and experience; and other related issues.

2. Cognitive Interviews—The findings of the focus groups would be used to develop a draft survey instrument. BOEM would then conduct 25 cognitive interviews to test and refine the survey. Specifically, the interviews would test if the survey is working as expected. Factors relevant to that determination include evaluating if questions are easily understood, how respondents formulate their answers, whether response categories are exhaustive and mutually exclusive, and other similar issues.

3. Onsite Intercept Surveys—BOEM expects the final survey would cover topics such as recreational destinations, frequency of use in the past 12 months, recreation trip-related expenditures, preferences for recreation site attributes, attitudes about and recreation behavioral responses to offshore energy exploration and development, and demographics. Surveys would be administered at a range of sites, including at some hub cities, smaller communities, public lands, visitor centers, seaports, airports, and marinas. Because the surveys would be administered between May and October, a potential respondent may be intercepted on more than one occasion. If a respondent clarifies that they have already taken the survey, they would not be asked to take it again.

OMB Control Number: OMB Control Number 1010-NEW.

Respondents/Affected Public: Participants in the focus groups and cognitive interviews would be members of the public who have engaged in coastal or marine recreation in the study area in the past year. Respondents to the surveys would be members of the public engaged in coastal or marine recreational activities in the study area. Members of the public would consist of a mixture of local, State, and out-of-State residents.

Total Estimated Number of Annual Responses: 565: 40 focus group participants, 25 cognitive interview participants, and 500 completed surveys. The focus group questions would be semi-structured and open-ended. Survey questions would be primarily discrete choice and closed-ended with minimal open-ended questions.

Estimated Completion Time per Response: 90 minutes per focus group participant, 45 minutes per cognitive interview participant, and 12 minutes per survey participant. (BOEM anticipates that the survey would comprise approximately 30 questions with each question taking about 20-30 seconds to complete on average.)

Total Estimated Number of Annual Burden Hours: 60 hours for focus groups, 18.75 hours for cognitive interviews, and 100 hours for survey; total of 178.75 hours.

Respondent's Obligation: Voluntary.

Frequency of Collection: One time.

Total Estimated Annual Non-hour Burden Cost: There is no non-hour cost burden associated with this collection.

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2024-02694 Filed 2-8-24; 8:45 am]

BILLING CODE 4340-98-P